DEPARTMENT OF TRANSPORTATION

Federal Aviation Administration

Public Notice for a Change in Use of Aeronautical Property and Long-Term Lease Approval at Pittsburgh International Airport (PIT), Pittsburgh, PA

AGENCY: Federal Aviation Administration (FAA), DOT.

ACTION: Notice of a request for a change in designation of on-airport property purchased with AIP funding from aeronautical to non-aeronautical use.

SUMMARY: The FAA is requesting public comment on the Allegheny County Airport Authority's proposal to change 38 acres of airport property at Pittsburgh International Airport, Pittsburgh, Pennsylvania from aeronautical to non-aeronautical use. A portion of this acreage was purchased with federal financial assistance through the Airport Improvement Program under Grant Agreement 3-42-0081-003-1983. This notice is required to be published in the Federal Register 30 days before modifying the land-use assurance that requires the property to be used for an aeronautical purpose.

DATES: Comments must be received on or before August 1, 2022.

ADDRESSES: Comments on this application may be mailed or delivered to the following address:

Julia Sharma, Project Manager, Allegheny County Airport Authority, Pittsburgh International Airport, Landside Terminal, 4th Floor Mezz, Pittsburgh, PA 15231, (412) 472-3500

and at the FAA Harrisburg Airports District Office:

Charles Sacavage, Project Manager, Harrisburg Airports District Office, 3905 Hartzdale Dr., Suite 508, Camp Hill, PA 17011, (717) 730-2830

FOR FURTHER INFORMATION CONTACT: Charles Sacavage, Project Manager, Harrisburg Airports District Office, location listed above, (717) 730-2830. The request for change in designation of on-airport property may be reviewed in person at this same location.

SUPPLEMENTARY INFORMATION: The following is a brief overview of the request: The Allegheny County Airport Authority requests to change the designation of 38 acres of on-airport property from aeronautical to non-aeronautical use for long-term lease for construction, operation, and maintenance of warehouse and distribution facilities to be known as Skyview Business Park. No land shall be sold as part of this land request. The property metes and bounds are: “All that certain Lease Area, Building #1 and Building #2, along with an access road, associated paved parking, and necessary areas for clearing and grading for the Skyview Business Park, situated in the Township of Findlay, County of Allegheny, Commonwealth of Pennsylvania, more particularly described as beginning at a center point in McClaren Road, variable width, said point being the northeast corner of Parcel A of the Savekis Plan No. 2, recorded in Plan Book Volume 125, Page 76, which is property now or formerly owned by Antoinette L. Vossier, et al. (being Tax Parcel 693-M-240), said point also being a corner of property now or formerly owned by The County of Allegheny (being Tax Parcel 696-D-396); thence N54°32′48″ W 52.09403′ to the Point of Beginning; thence north along the westerly side of McClaren Road to the northeast corner of Skyview Business Park N11°05′50″ W 145.61305′; thence the following 7 courses and distances to the northeast corner of Skyview Building #1 lease: 1. S77°14′18″ W 16.28415′; 2. S87°16′11″ W 99.2787′; 3. N84°57′14″ W 118.13998′; 4. N72°56′30″ W 54.85074′; 5. N63°06′11″ W 155.01039′; 6. N66°09′31″ W 119.35571′; 7. N79°19′32″ W 7.65344′; thence continuing along the northern boundary of Skyview Building #1 lease the following 20 courses and distances to northwest corner of Skyview Business Park: 1. N84°02′09″ W 33.10966′; 2. N75°26′02″ W 32.24644′; 3. N70°33′36″ W 35.44247′; 4. N66°11′39″ W 45.66257′; 5. N56°34′02″ W 30.33074′; 6. N54°44′22″ W 47.25171′; 7. N50°27′57″ W 56.89707′; 8. N52°58′11″ W 54.83322′; 9. N51°41′12″ W 39.63981′; 10. N51°37′58″ W 35.26145′; 11. N52°57′56″ W 80.32992′; 12. N50°36′58″ W 52.19505′; 13. N55°20′55″ W 99.1901′; 14. N59°54′58″ W 100.54001′; 15. N63°18′09″ W 116.1815′; 16. N68°57′45″ W 133.7068′; 17. N74°54′41″ W 126.76494′; 18. N78°01′52″ W 84.71001′; 19. N78°01′52″ W 34.63081′; 20. N85°20′45″ W 45.95006′; thence in a southerly direction to the southwest corner of Skyview Business Park the following 5 courses and distances: 1. S36°39′51″ W 972.97714′; 2. S18°29′12″ W 138.38488′; 3. S1°54′04″ E 111.25513′; 4. S8°45′35″ E 191.21665′; 5. S12°14′48″ E 158.05714′; thence along the southern boundary of Skyview Business Park S55°34′57″ E 348.51375′ and continuing N70°40′22″ E 188.72506′; thence continuing N30°15′47″ E 97.0933′ along eastern side of Skyview Business Park and continuing the following 14 courses and distances: 1. N34°06′48″ E 319.51622′; 2. N56°01′39″ E 99.33959′; 3. N80°59′08″ E 101.84117′; 4. S85°36′10″ E 113.94664′; 5. S87°24′12″ E 144.53457′; 6. N88°08′45″ E 100.51457′; 7. N67°35′13″ E 183.43316′; 8. N41°16′01″ E 48.90713′; 9. N40°34′06″ E 74.0512′; 10. N40°01′32″ E 48.09366′; 11. N39°59′59″ E 189.31802′; 12. N64°44′51″ E 95.53055′; 13. N82°46′33″ E 51.62404′; 14. N89°03′46″ E 33.01131′; thence along the southern boundary of the access road to Skyview Business Park the following 4 courses and distances: 1. S65°26′52″ E 19.98406′; 2. S57°16′49″ E 148.47784′; 3. S76°36′28″ E 98.95761′; 4. N86°09′52″ E 246.6246′; to the Point of Beginning, containing 38 acres.” The 38 acre area requested to be designated as non-aeronautical is currently vacant and not used or developed. Subsequent to the implementation of the proposed redesignation, rents received by the airport from this property must be used in accordance with FAA's Policy and Procedures Concerning the Use of Airport Revenue, published in the Federal Register on February 16, 1999. Any person may inspect the request by appointment at the FAA office address listed above. Interested persons are invited to comment. All comments will be considered by the FAA to the extent practicable.

Issued in Camp Hill, Pennsylvania, June 30, 2022.
Ricky Harner,
Manager, Harrisburg Airports District Office.

[FR Doc. 2022-14463 Filed 7-6-22; 8:45 am]

BILLING CODE 4910-13-P